DEPARTMENT OF AGRICULTURE

Forest Service

Inyo National Forest; California; Mammoth Mountain Ski Area Main Lodge Redevelopment

AGENCY: Forest Service, Agriculture (USDA).

ACTION: Notice of intent to prepare an environmental impact statement.

SUMMARY: Mammoth Mountain Ski Area (MMSA) has submitted a proposal to the Inyo National Forest (the Forest) to pursue approval of select projects from its 2022 Master Development Plan (MDP) on National Forest System (NFS) lands, in accordance with its existing Special Use Permit (SUP). The Proposed Action includes: new lifts, lift replacements and realignments, additional ski terrain development, new buildings and parking lots for guest and employee use, road reconstruction and construction of a new road, trail construction for pedestrians and bike connectivity, extensions of existing utilities and on-mountain infrastructure, and other infrastructure improvements to support base area development on private parcels. The Inyo National Forest plans to complete a combined environmental impact statement (EIS)/Environmental Impact Report (EIR) with the Town of Mammoth Lakes because a number of projects proposed are entirely on private lands.

DATES: Comments concerning the scope of the analysis must be received by December 27, 2022. A separate notice (Notice of Preparation) with concurrent review has been published by the Town under CEQA. The draft EIS/EIR is expected in late 2023 and the final EIS is expected in 2024.

ADDRESSES: Comments may be sent by the following methods:

• Online: https://www.fs.usda.gov/project/?project=62406. Click on “Comment/Object on Project” on the right side of the page.

• Mail: Lesley Yen, Forest Supervisor, c/o Fred Wong, Mammoth Lakes District Ranger, Inyo National Forest, 351 Pacu Lane, Suite 200, Bishop, CA 93514.

FOR FURTHER INFORMATION CONTACT: Additional information related to the proposed projects on NFS lands can be obtained from: Tyler Lee, Mountain Resort Specialist, Inyo National Forest. Mr. Lee can be reached by phone at 760-924-5508 or by email at tyler.lee@usda.gov.

Individuals who use telecommunication devices for the deaf (TDD) may call the Federal Relay Service (FRS) at 1-800-877-8339, 24 hours a day, every day of the year, including holidays.

SUPPLEMENTARY INFORMATION:

Purpose and Need for Action

The Forest Service is responding to an application submitted under the National Forest Ski Area Permit Action of 1986 and Ski Area Recreational Opportunity Enhancement Act of 2011 (SAROEA) by MMSA to implement certain projects from their accepted MDP. MMSA proposes key infrastructural changes to meet the needs of its day-use and overnight clientele and best utilize public and private lands within the Main Lodge Base area. These changes are necessary to address aging infrastructure, meet anticipated recreation demands, and attain the desired conditions for this management area. These changes are intended to improve guest circulation, operational efficiencies, fire safety, and ski area access.

The Forest, through consideration and acceptance of the proposal, has identified a need to:

• Renew and improve guest services, guest circulation, accommodations, and portal staging capacity in the Main Lodge Base area;

• Replace aging infrastructure;

• Expand guest services offerings to meet increased demands; and

• Offer learning progression opportunities for lower ability level skiers through enhanced skier services, improved terrain, and additional lifts.

Proposed Action

The Proposed Action on NFS land includes the following:

• Construction of one new lift, two new magic carpets, one new surface platter lift, and replacement of the existing Discovery Chair, Broadway Chair, and Panorama Gondola;

• Terrain enhancements including new trails, trail extensions, and grading that would result in approximately 10 acres of new ski trails within the existing SUP;

• Installation of new snowmaking infrastructure to provide approximately 9 additional acres of snowmaking coverage;

• Construction of a roadway connecting private parcels that includes a snowmobile crossing;

• Reroute of the existing Highway 203 (within the boundary of private parcel);

• An additional parking lot in “Big Bend” area adjacent Highway 203 that would accommodate approximately 360 vehicles;

• Upgrades to existing utility lines and construction of new utility lines to serve the proposed projects;

• Construction of a gravity fed water storage tank for domestic water storage needs;

• Construction of a new reclaimed water treatment plant and associated infrastructure on public and private lands;

• Construction of one new mountain operations facility (at the Big Bend parking lot) and replacement of the existing Main Lodge;

• Enhancements to existing summer activities; and

• Creation of wildfire defensible space around the Main Lodge Base area.

A number of projects proposed entirely on private lands that are subject to authorization by the Town of Mammoth Lakes, evaluated under CEQA, and analyzed alongside the previous list of proposed projects in a forthcoming combined EIS/EIR. A full description can be found at: https://www.fs.usda.gov/project/?project=62406.

Lead and Cooperating Agencies

While there are no identified cooperating agencies for this project, the Town of Mammoth Lakes will be lead for the CEQA decision and will be responsible for the CEQA compliance in a joint EIR/EIS.

Responsible Official

The Responsible Official is Lesley Yen, Forest Supervisor for the Inyo National Forest.

Scoping Comments and the Objection Process

This notice of intent initiates the NEPA scoping process, which guides the development of the environmental analysis. The Agency requests comments on potential alternatives and impacts and identification of any relevant information, studies, or analyses concerning impacts affecting the quality of the environment. Concurrently, the Town of Mammoth Lakes has issued a notice of preparation of an EIR, initiating the scoping process under CEQA. A public open house regarding this proposal including projects on private lands will be held on November 30, 2022, from 6 p.m. to 8:30 p.m. at the Town of Mammoth Lakes, CA Council Chambers, Suite Z at 437 Old Mammoth Road. This meeting will be held jointly with the Town of Mammoth Lakes regarding their analysis of the project under CEQA. Representatives from the Forest, Town of Mammoth Lakes, and MMSA will be present to answer questions and provide additional information on this project.

To be most helpful, comments should be specific to the project area and should identify resources or effects that should be considered by the Forest Service. Reviewers must provide their comments at such times and in such manner that they are useful to the agency's preparation of the EIS. Therefore, comments should be provided prior to the close of the comment period and should clearly articulate the reviewer's concerns and contentions. Submitting timely, specific written comments during this scoping period or any other official comment period establishes standing for filing objections under 36 CFR parts 218A and B. Comments received in response to this solicitation, including names and addresses of those who comment, will be part of the public record for this proposed action. Comments submitted anonymously will be accepted and considered, however, they will not be used to establish standing for the objection process.

Permits, Licenses or Other Authorizations Required

Activities proposed on private lands will be subject to lead agency authorization by the Town of Mammoth Lakes with analysis under the CEQA. The reroute of Highway 203 will require authorization from the California Department of Transportation (CalTrans). Other permits or licenses may be identified through scoping and the EIS analysis process.

Nature of Decision To Be Made

Given the purpose and need, the Responsible Official will review the proposed action, the other alternatives, and the environmental consequences to decide the following:

• Whether to approve, approve with modifications, or deny the proposed activities within MMSA's existing SUP.

• Whether to prescribe conditions needed for the protection of the environment on NFS lands.

Dated: November 18, 2022.
Sandra Watts,
Associate Deputy Chief, National Forest System.

[FR Doc. 2022-25688 Filed 11-23-22; 8:45 am]

BILLING CODE 3411-15-P